NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 14, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent. No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food Safety and Inspection Service (NI-462-00-1, 13 items, 11 temporary items). Records relating to investigations and audits, including case files, working papers, feeder reports, general correspondence, an electronic tracking system, and final reports of audits. Also included are electronic copies of records created using electronic mail and word processing. Proposed for permanent retention are recordkeeping copies of case files pertaining to significant investigations and final reports of significant audits.

2. Department of the Army, Department of Defense Civilian Personnel Management Service (N1-AU-99-6, 3 items, 3 temporary items). Records relating to determining and applying base rate schedules for wage grade employees paid out of non-appropriated funds, including wage survey data maintained in electronic form that was previously approved for permanent retention. This schedule also increases the retention period of recordkeeping copies of wage survey data not maintained in electronic form that were previously approved for disposal. Electronic copies of documents created using electronic mail and word processing are also included.

3. Department of Commerce, National Institute of Standards and Technology (N1-167-01-1, 12 items, 12 temporary items). Records documenting agency Y2K activities and the development and operation of agency web sites. Included are Y2K planning, policy, and implementation records and such web-related records as change control requests, feedback and statistical reports, and design records. Electronic copies of documents created using electronic mail and word processing are also included.

4. Department of Defense, U.S. Court of Appeals for the Armed Forces (N1-330-01-1, 2 items, 2 temporary items). Judges' papers relating to cases. Records include memoranda that are circulated within or between judges' chambers, along with draft opinions, votes, and other comments that are circulated within the entire court but are not included with the judges' voting sheets. Also included are electronic copies of documents created using electronic mail and word processing.

5. Department of Defense, Defense Logistics Agency (N1-361-98-1, 25 items, 15 temporary items). Defense Manpower Data Center records relating to such matters as outreach referral, joint duty assignment management, Federal creditor agency debt collection, and reenlistment eligibility. Included are inputs, electronic master files, system documentation, and outputs along with U.S. Postal Service records used for computer matching. Also included are inputs and outputs of the data bases for which the master file and system documentation are proposed for permanent retention. Records proposed for permanent retention relate to employment and pay matters, noncombatant evacuation and repatriation, criminal and non-criminal incident reports, personnel surveys and census data, and personnel eligibility for benefits.

6. Department of Energy, Agency-wide (N1-434-01-1, 1 item, 1 temporary item). Unidentified and deteriorated medical x-rays. This schedule authorizes the agency to immediately destroy deteriorating medical x-rays that cannot be identified, interpreted, or copied and may pose a health hazard.

7. Department of Health and Human Services, Centers for Disease Control and Prevention (N1-442-00-1, 3 items, 3 temporary items). Radiation dose reconstruction records from the Radiation Studies Branch of the National Center for Environmental Health. Records consist of electronic data and system documentation relating to radiation dose reconstruct-ion computer models. Final reports generated from models were previously approved for permanent retention.

8. Department of Housing and Urban Development, Office of Federal Housing Enterprise Oversight (N1-543-01-2, 2 items, 1 temporary item). Electronic copies of documents used to revise and update the agency's examination handbook, which is used as a guide in reviewing the financial soundness and safety of government-sponsored enterprises. Recordkeeping copies of the handbook are proposed for permanent retention.

9. Department of Justice, Drug Enforcement Administration (N1-170-01-2, 8 items, 8 temporary items). Records relating to the agency's Y2K initiative, including testing plans, strategies, test results, compliance applications, Inspector General reports, consultant contracts, and correspondence with vendors, the Department of Justice, the Office of Management and Budget, and the General Accounting Office. Also included are electronic copies of documents created using electronic mail and word processing.

10. Department of Labor, Employment Standards Administration (N1-448-01-1, 2 items, 1 temporary item). Electronic copies of documents created using electronic mail and word processing that are associated with the subject files of the Assistant Secretary for the Employment Standards Administration for the period 1993-2000. Recordkeeping copies of these files are proposed for permanent retention.

11. Department of Transportation, Research and Special Programs Administration (N1-467-00-2, 8 items, 7 temporary items). Records relating to monitoring the packaging and transportation of hazardous materials, including such records as paper and optical disk copies of civil penalty case files, general correspondence, and electronic copies of documents created using electronic mail and word processing. Record-keeping copies of operations manuals are proposed for permanent retention. Significant civil penalty case files will be brought to NARA's attention for appraisal on a case-by-case basis.

12. Department of the Treasury, Office of the Comptroller of the Currency (N1-101-01-1, 6 items, 6 temporary items). Inputs, outputs, electronic master files, and system documentation associated with an electronic information system relating to the supervision and examination of community, mid-size, and credit card banks.

13. Department of Veterans Affairs, Office of Financial Management (N1-15-01-2, 4 items, 4 temporary items). Records pertaining to the development of web based application systems. Included are such records as budget estimates, cost justifications, progress reports, software requirements, testing results, and reports related to maintenance. Also included are electronic copies of documents created using electronic mail and word processing.

14. General Services Administration, Office of Inspector General (N1-269-01-1, 15 items, 13 temporary items). Paper and optical disk copies of investigative case files lacking historical significance. Also included are such records as an electronic tracking system and electronic copies of documents created using electronic mail and word processing. Recordkeeping copies of investigative case files that attract national or regional media attention, result in a Congressional investigation, result in substantive changes to agency policy and procedures, or involve senior agency officials are proposed for permanent retention.

15. National Labor Relations Board, Office of the Inspector General (N1-25-01-1, 8 items, 7 temporary items). Records documenting such matters as audits and inspections, routine investigations, and allegations that do not result in an investigation or the establishment of a formal case file. Also included are electronic copies of documents created using electronic mail and word processing. Recordkeeping copies of selected investigative case files are proposed for permanent retention. Semi-annual reports of the Inspector General were previously approved for permanent retention.

Dated: March 19, 2001.
Michael J. Kurtz,
Assistant Archivist for Record Services—Washington, DC.

[FR Doc. 01-7886 Filed 3-29-01; 8:45 am]

BILLING CODE 7515-01-P